DEPARTMENT OF THE INTERIOR

Bureau of Land Management

[CO-600-1990-PG]

Northwest Colorado Resource Advisory Council Meeting

AGENCY: Bureau of Land Management, Interior.

ACTION: Notice of meeting.

SUMMARY: The next meeting of the Northwest Colorado Resource Advisory Council will be held on Monday, May 14, and Tuesday, May 15, 2001, at the Colorado Northwestern Community College, Rangely, Colorado.

DATES: Monday, May 14, and Tuesday, May 15 , 2001.

ADDRESSES: For further information, contact Lynn Barclay, Bureau of Land Management (BLM), 455 Emerson Street, Craig, Colorado 81625; Telephone (970) 826-5096.

SUPPLEMENTARY INFORMATION: The Northwest Resource Advisory Council (RAC) will meet on Monday, May 14, 2001, and Tuesday, May 15, 2001, at the Colorado Northwestern Community College, 500 Kennedy Drive, Rangely, Colorado 81648. The meeting will start at 1:00 p.m. on Monday, May 14, ending at 4:30 p.m. that same day. The meeting will reconvene Tuesday, May 15, at 9:00 a.m. ending at 4:00 p.m. Discussion will include: National strategy for motorized off-highway vehicle use; updates on Bangs Canyon jeep route, charter amendments and oil, gas, and mineral development; weed management; and wildlife issues. A field tour is planned for the afternoon of Tuesday, May 15, 2001.

The meeting is open to the public. Interested persons may make oral statements or submit written statements at the meeting. Time for public comment will be at 4:00 p.m., Monday, May 14, 2001. Per-person time limits for oral statements may be set to allow all interested persons an opportunity to speak.

Summary minutes of council meetings are maintained at the Bureau of Land Management Offices in Craig and Grand Junction, Colorado. They are available for public inspection and reproduction during regular business hours within thirty (30) days following the meeting.

Dated: April 2, 2001.
Mark W. Stiles,
Western Slope Center Manager.

[FR Doc. 01-8969 Filed 4-10-01; 8:45 am]

BILLING CODE 4310-JB-P